DEPARTMENT OF THE INTERIOR

Geological Survey

Bird Banding Laboratory Advisory Committee

AGENCY: Geological Survey, Interior.

ACTION: Notice of meeting.

SUMMARY: The second meeting of the Advisory Committee on the bird Banding laboratory (Committee) will take place February 22 ad 23, 2006, at the national headquarters for Ducks Unlimited, One Waterfowl Way, Memphis, Tennessee 38120. The meeting, which runs from 8:30 a.m. to 4:30 p.m. each day, will take place in DU's Conference Center. The purpose of the Advisory Committee, which is co-chaired by the USGS and the U.S. Fish and Wildlife Service, is to represent the interests of the bird banding community, including both game and non-game birds, in advising the U.S. Department of the Interior, USGS, on current and future management of the bird Banding Laboratory. The agenda for this meeting will focus on a Committee review of the results of the work done since the last meeting by four smaller subgroups. Each subgroup was charged with developing draft issue statement for one of the following topics: (1) Bird banding permits; (2) data collection and storage; (3) data dissemination; and (4) partnerships. Subsequent to the review discussion, the Committee will finalize statements for each issue and begin developing recommendations for action.

The meeting is open to all members of the interested public, and time on the agenda has been reserved at the conclusion of each day's work for the Committee to receive verbal comments (limited to 5 minutes per person) from the public. To speak before the Committee, please register in advance with Mr. Daniel James (see contact information below), the USGS Designated Federal Official (DFO) for the Committee.

FOR FURTHER INFORMATION CONTACT: Daniel L. James, 12201 Sunrise Valley Drive, MS 301, Reston, Virginia 20192; 703-648-4253, e-mail: dan_james@usgs.gov.

Dated: February 2, 2006.
Byron K. Williams,
Acting Associate Director for Biology.

[FR Doc. 06-1150 Filed 2-7-06; 8:45 am]

BILLING CODE 4311-AM-M